DEPARTMENT OF DEFENSE

Department of the Army, U.S. Army Corps of Engineers

Notice of Public Meetings for The Great Lakes and Mississippi River Interbasin Study—Brandon Road Draft Integrated Feasibility Study and Environmental Impact Statement—Will County, Illinois

AGENCY: Department of the Army, U.S. Army Corps of Engineers.

ACTION: Public Meetings.

SUMMARY: The Rock Island and Chicago Districts, U.S. Army Corps of Engineers (USACE), will host three public meetings to discuss the draft report titled The Great Lakes and Mississippi River Interbasin Study—Brandon Road Draft Integrated Feasibility Study and Environmental Impact Statement—Will County, Illinois. The purpose of these public meetings is to receive input regarding the GLMRIS-Brandon Road Study to prevent the upstream transfer of aquatic nuisance species, such as Asian carp, while minimizing impacts to existing waterway uses and users. Public meetings will begin with an open house followed by a presentation regarding the study and an oral public comment period. There will be opportunities for web-based participation during two of these meetings.

DATES: USACE will hold public meetings on:

1. September 11 from 1:00 to 5:00 p.m. at the James R. Thompson Center;

2. September 14 from 3:30 to 6:30 p.m. at Muskegon Community College; and

3. September 18 from 3:30 to 6:30 p.m. at Joliet Junior College, “U” Conference Center.

ADDRESSES: The addresses for the public meetings are:

1. James R. Thompson Center, 100 W Randolph St., Chicago, Illinois 60604;

2. Muskegon Community College, Collegiate Hall, 221 S. Quarterline Road, Muskegon, Michigan 49442; and

3. Joliet Junior College, “U” Conference Center, 1215 Houbolt Road, Joliet, Illinois 60431.

Web Participation: A Facebook Live format web audio/video broadcast will be available for the three meetings. Visit http://glmris.anl.gov/brandon-rd/ for details on how to participate in these virtual meetings. Phone and web conference access is as follows:

Phone: Toll-Free: 888-431-3632, Access Code: 723853.

Web Conference URL: https://www.webmeeting.att.com, Meeting Number: 888-431-3632, Access Code: 723853.

Written comments, statements, testimonies and supporting information are accepted between August 7, 2017 and October 2, 2017 and considered with the same weight as oral comments and supporting information presented at the public meetings. Written comments may be submitted in the following ways:

• Mail and Hand Delivery: U.S. Army Corps of Engineers, Chicago District, ATTN: GLMRIS-Brandon Road Comments, 231 S. LaSalle St., Suite 1500, Chicago, IL 60604. Comments must be postmarked by October 2, 2017.

• GLMRIS project Web site: Use the web comment function found at http://glmris.anl.gov/brandon-rd/.

• Facebook Live participants can use the “Live Chat” feature; however, these comments will not be recorded in the official record.

FOR FURTHER INFORMATION CONTACT:

• Andrew Leichty, Project Manager, by mail: U.S. Army Corps of Engineers, Rock Island District, Clock Tower Building (ATTN: Leichty), P.O. Box 2004, Rock Island, IL 61204-2004, by phone: 309-794-5399; or by email: Andrew.L.Leichty@usace.army.mil.

• For media inquiries, contact Allen Marshall, District Spokesperson, by mail: U.S. Army Corps of Engineers, Rock Island District, Clock Tower Building (ATTN: Marshall), P.O. Box 2004, Rock Island, IL 61204-2004, by phone: 309-794-5204; or by email: Allen.A.Marshall@usace.army.mil.

SUPPLEMENTARY INFORMATION: The purpose of these public meetings is to receive oral and written comments on the draft report/EIS titled The Great Lakes and Mississippi River Interbasin Study—Brandon Road Draft Integrated Feasibility Study and Environmental Impact Statement—Will County, Illinois, available at http://glmris.anl.gov/brandon-rd/. On August 7, 2017, USACE published a notice in the Federal Register (FR) announcing the release of the draft report (82 FR 36760), followed by the U.S. Environmental Protection Agency's Notice of Availability filed in the Federal Register on August 18, 2017 (82 FR 39424), announcing the formal public review period that extends until October 2, 2017. All comments must be submitted on the GLMRIS project Web site or postmarked by October 2, 2017, to be considered.

USACE asks those wanting to make oral comments to register on the GLMRIS project Web site at http://glmris.anl.gov/brandon-rd/ prior to the meeting. Each individual wishing to make oral comments shall be given three (3) minutes, and a stenographer will document oral comments. During each meeting, USACE will also collect written comments on comment cards. Facebook Live viewers must use the GLMRIS project Web site to enter official comments; “Live Chat” comments will be discarded. If you require assistance under the Americans with Disabilities Act, please contact Mr. Allen Marshall at Allen.A.Marshall@usace.army.mil or by phone at 309-794-5204 at least seven working days prior to the meeting to request arrangements.

Comments, including the names and addresses of those who comment, received during the comment period will be posted on the GLMRIS project Web site after the comment period has ended. Comments submitted anonymously will be accepted, considered, and posted. Commenters may indicate that they do not wish to have their name or other personal information made available on the Web site. However, USACE cannot guarantee that information withheld from the Web site will be maintained as confidential. Persons requesting confidentially should be aware that, under the Freedom of Information Act, confidentiality may be granted in only limited circumstances.

Changes to these meetings will be posted at http://glmris.anl.gov/brandon-rd/.

Authority

This action is being undertaken pursuant to the Water Resources and Development Act of 2007, Section 3061(d), Public Law 110-114, and the National Environmental Policy Act of 1969 (NEPA), 42 U.S.C 4321, et seq., as amended.

Dated: August 25, 2017.
Dennis W. Hamilton,
Chief, Programs and Project Management Division.

[FR Doc. 2017-18572 Filed 8-31-17; 8:45 am]

BILLING CODE 3720-58-P